DEPARTMENT OF COMMERCE

Patent and Trademark Office

Submission for OMB Review; Comment Request; “Third-Party Submissions and Protests”

The Department of Commerce will submit to the Office of Management and Budget (OMB) for clearance the following proposal for collection of information under the provisions of the Paperwork Reduction Act (44 U.S.C. chapter 35).

Agency: United States Patent and Trademark Office, Commerce.

Title: Third-Party Submissions and Protests.

OMB Control Number: 0651-0062.

Form Number(s): PTO/SB/429.

Type of Request: Renewal.

Number of Respondents: 1,560.

Average Time per Response: 10 hours.

Burden Hours: 15,600.

Cost Burden: $237,619.25.

Needs and Uses: This information collection (the information collected via third-party submissions under 37 CFR 1.290 and protests under 37 CFR 1.291) is necessary so that the public may contribute to the quality of issued patents. Through the third-party submissions, members of the public may submit patents, published patent applications, or other printed publications of potential relevance to the examination of an application in accordance with 37 CFR 1.290. Through the protests, members of the public may call attention to any facts that—in the protestor's opinion—would make the grant of a patent improper. The USPTO will use this information, as appropriate, during the patent examination process to assist in evaluating the patent application and to, where necessary, avoid the issuance of an invalid patent.

Affected Public: Individuals or households; businesses or other for-profits; and not-for-profit institutions.

Frequency: On occasion.

Respondent's Obligation: Required to Obtain or Retain Benefits.

OMB Desk Officer: Nicholas A. Fraser, email: Nicholas_A._Fraser@omb.eop.gov.

Once submitted, the request will be publicly available in electronic format through reginfo.gov. Follow the instructions to view Department of Commerce collections currently under review by OMB.

Further information can be obtained by:

• Email: InformationCollection@uspto.gov. Include “0651-0062 copy request” in the subject line of the message.

• Mail: Marcie Lovett, Records Management Division Director, Office of the Chief Information Officer, United States Patent and Trademark Office, P.O. Box 1450, Alexandria, VA 22313-1450.

Written comments and recommendations for the proposed information collection should be sent on or before July 9, 2015 to Nicholas A. Fraser, OMB Desk Officer, via email to Nicholas_A._Fraser@omb.eop.gov, or by fax to 202-395-5167, marked to the attention of Nicholas A. Fraser.

Dated: June 1, 2015.
Marcie Lovett,
Records Management Division Director, USPTO, Office of the Chief Information Officer.

[FR Doc. 2015-14090 Filed 6-8-15; 8:45 am]

BILLING CODE 3510-16-P